DEPARTMENT OF COMMERCE

National Oceanic and Atmospheric Administration

National Sea Grant Advisory Board; Public Meeting of the National Sea Grant Advisory Board's Fall 2017 Meeting

AGENCY: National Oceanic and Atmospheric Administration, Department of Commerce (NOAA), Department of Commerce (DOC).

ACTION: Notice of public meeting of the National Sea Grant Advisory Board (NSGAB).

SUMMARY: This notice sets forth the schedule and proposed agenda of a forthcoming meeting of the NSGAB. NSGAB members will discuss and provide advice on the National Sea Grant College Program (NSGCP) in the areas of program evaluation, strategic planning, education and extension, science and technology programs, and other matters as described in the agenda found on the NSGCP Web site at http://seagrant.noaa.gov/WhoWeAre/Leadership/NationalSeaGrantAdvisoryBoard/UpcomingAdvisoryBoardMeetings.aspx.

DATES: The announced meeting is scheduled for Monday, October 16 from 8:00 a.m. to 4:45 p.m. ET and Tuesday, October 17 from 8:00 a.m. to 12:00 p.m. ET.

ADDRESSES: The meeting will be held at the Embassy Suites by Hilton, 605 West Oglethorpe Avenue, Savannah, Georgia 31401.

Status: The meeting will be open to public participation with a 15-minute public comment period on Tuesday, October 17, 2017 at 11:30 a.m. ET. (Check agenda using link in the Summary section to confirm time prior to attending.)

The NSGAB expects that public statements presented at its meetings will not be repetitive of previously submitted verbal or written statements. In general, each individual or group making a verbal presentation will be limited to a total time of three (3) minutes. Written comments should be received by Elizabeth Rohring by Friday, October 13, 2017 to provide sufficient time for NSGAB review. Written comments received after the deadline will be distributed to the NSGAB, but may not be reviewed prior to the meeting date. Seats will be available on a first-come, first-serve basis.

Contact Information: For any questions concerning the meeting, please contact Elizabeth Rohring, National Sea Grant College Program, National Oceanic and Atmospheric Administration, 1315 East-West Highway, Room 11861, Silver Spring, Maryland 20910, 301-734-1082, or via email at elizabeth.rohring@noaa.gov.

Special Accomodations: These meetings are physically accessible to people with disabilities. Requests for sign language interpretation or other auxiliary aids should be directed to Elizabeth Rohring by Friday, October 6, 2017. See Contact Information.

SUPPLEMENTARY INFORMATION: The NSGAB, which consists of a balanced representation from academia, industry, state government, and other relevant fields, was established in 1976 by Section 209 of the Sea Grant Improvement Act (Pub. L. 94-461, 33 U.S.C. 1128). The NSGAB advises the Secretary of Commerce and the Director of the NSGCP with respect to operations under the Act, and such other matters as the Secretary refers to them for review and advice.

Dated: September 22, 2017.
David Holst,
Acting Chief Financial Officer/CAO, Office of Oceanic and Atmospheric Research, National Oceanic and Atmospheric Administration.

[FR Doc. 2017-21090 Filed 9-29-17; 8:45 am]

BILLING CODE 3510-KA-P